DEPARTMENT OF THE INTERIOR

Fish and Wildlife Service

[FWS-R1-R-2011-N011; 1265-0000-10137-S3]

Palmyra Atoll National Wildlife Refuge, U.S. Pacific Island Territory; Nonnative Rat Eradication Project, Draft Environmental Impact Statement

AGENCY: Fish and Wildlife Service, Interior.

ACTION: Notice of availability; request for comments.

SUMMARY: We, the U.S. Fish and Wildlife Service (Service), announce the availability of Palmyra Atoll National Wildlife Refuge (Refuge) nonnative rat eradication project draft environmental impact statement (DEIS) for public review and comment. In the DEIS we describe a range of alternatives for eliminating nonnative rats from the Refuge.

DATES: To ensure consideration, please send your written comments by April 11, 2011.

ADDRESSES: You may send your comments or requests for information by any of the following methods. For information on viewing or obtaining the documents, see “Public Availability of Documents” under SUPPLEMENTARY INFORMATION.

E-mail: pacific_reefs@fws.gov. Include “Palmyra rat project” in subject line.

Fax: Attn: Dr. Elizabeth Flint, 808-792-9586.

U.S. Mail: Pacific Reefs National Wildlife Refuge Complex, 300 Ala Moana Blvd., Room 5-231, Honolulu, HI 96850.

FOR FURTHER INFORMATION CONTACT: Elizabeth Flint, Supervisory Wildlife Biologist, (808) 792-9553.

SUPPLEMENTARY INFORMATION:

Introduction

With this notice, we continue the public involvement process for our DEIS, in accordance with the National Environmental Policy Act (NEPA; 42 U.S.C. 4321 et seq.), as amended, and its implementing regulations. We started the process through a notice in the Federal Register (75 FR 2158) published on January 14, 2010.

Refuge Overview

Palmyra Atoll National Wildlife Refuge is located in the Northern Line Islands, approximately 1,000 miles south of Honolulu, HI, in the central Pacific Ocean. The Refuge encompasses nearly all of the Palmyra Atoll (Atoll). The Atoll consists of approximately 54 small, heavily vegetated islets surrounding 3 central lagoons. Habitats consist of 680 acres of land and 15,512 acres of lagoons and shallow reefs. The Nature Conservancy (TNC) purchased the Atoll's islands in 2000 from private landowners, and later sold most of the islands to the Service. The Refuge was established to manage, conserve, protect, and restore fish, wildlife, and plant resources and their habitats for future generations.

The Nature Conservancy retained ownership of Cooper and Menge Islands, and established a small research station on Cooper Island that is operational year round. The Nature Conservancy's mission is to preserve plants, animals and natural communities that represent the biological diversity of life on Earth by protecting the lands and waters they need to survive. The Service and TNC work cooperatively to protect, restore, and enhance migratory birds, coral reefs, and threatened and endangered species in their natural setting on the Atoll.

The Pacific Remote Islands Marine National Monument (Monument) was established on January 6, 2009, by Presidential Proclamation by President George W. Bush. The Refuge is one of seven refuges in the Monument, and is encompassed within the Monument's boundaries. The Refuge's boundary extends seaward 12 nautical miles, encompassing 515,232 acres; the boundary of the Monument extends resource protection out to 50 nautical miles. The Refuge's terrestrial habitats support one of the largest remaining tropical coastal strand forests in the U.S. Pacific Islands, primarily consisting of the Pisonia grandis tree. A diverse land crab fauna including the coconut crab, ecologically intact predator-dominated fish assemblages, and large seabird populations are important Refuge resources. The Refuge is closed to commercial fishing.

Background

The National Environmental Policy Act and National Wildlife Refuge System Administration Act

We prepared the DEIS in accordance with NEPA, and its implementing regulations; the National Wildlife Refuge System Administration Act of 1966 as amended by the National Wildlife Refuge System Improvement Act of 1997 (16 U.S.C. 668dd-668ee) (Refuge Administration Act); and Service regulations and policies. The Refuge Administration Act requires each unit of the National Wildlife Refuge System to be managed to achieve its establishing purposes.

Public Outreach

We conducted public scoping for the DEIS from January 14 to March 1, 2010 (75 FR 2158). During that time we requested public comments through the Federal Register and on our Web site http://www.fws.gov/palmyraatoll/rainforestrestoration.html. The comments we received covered topics such as threats to nontarget species, our selection of the rodenticide brodifacoum over diphacinone, and effects to other Refuge operations. We have considered and evaluated these comments, and incorporated them into the various alternatives identified in the DEIS. We are now requesting your comments on our draft alternatives.

Invasive Species on the Atoll

The Atoll was significantly modified by the U.S. Navy during World War II. A network of roadways connecting the major islets and the construction of a north-south causeway altered natural water circulation. The impacts from invasive species on the Atoll's native forests, fauna, and habitats are associated with World War II era restructuring and invasive species introductions that included plants (coconut palm), insects (several ant species, mosquitoes, and scale insects), and mammals (black rats).

Black rats cause degradation of nearly all aspects of the Atoll's ecosystem, from breeding seabird populations to the native Pisonia forest ecotype. Rats prey on native seabirds, their eggs, and their young, and are likely preventing the recolonization of six additional seabird species indigenous to the area. The rats prey on native land crabs as well, and directly compete with them for limited food resources.

Black rats provide habitat for other invasive species. The spread of coconut palm, an invasive tree species, is likely aided by rat-related recruitment and limitation of other tree species. Rats foraging on coconuts create habitat for invasive mosquitoes, and spread the seeds of invasive flora throughout the Atoll. The rats are modifying the terrestrial ecosystem of this important Atoll by limiting the reproduction, recruitment, and establishment of several native tree species. Coconut palms already dominate 45 percent of the Refuge's forests. Left unchecked, the combined effects of rats and coconut palms could drastically alter forest structure. All of these impacts in turn affect the relationship between land and marine resources, and compromise our ability to achieve Refuge purposes.

Palmyra Atoll also functions as a natural laboratory, where scientists study ocean acidification and other effects of anthropogenic global climate change, including the movements of endangered species in the absence of other significant human-induced effects, and other issues. Removing rats and restoring the ecological integrity of the ecosystem are essential for facilitating this research.

Palmyra Atoll Restoration

Removing rats from Palmyra Atoll is the first step in a series of restoration efforts designed to restore the Atoll to its pre World War II status. Rat eradication is the first step in the process, because eradicating the rats is feasible and relatively fast. Removing the rats will enhance the ecological integrity of the Atoll by slowing the spread of coconut palms and allowing extirpated breeding seabird species to recolonize. The next stage of restoration, eradicating the coconut palms, becomes feasible after the removal of the rats.

Eradicating rats from Palmyra is expected to result in biodiversity benefits for seabirds, plants, terrestrial invertebrates, and other components of the Atoll's terrestrial ecosystem. Removing the threat of rats will give Palmyra's remnant native forest and the extant and likely extirpated seabird species the opportunity to recover. The benefit of this conservation action is significant from a regional perspective because Palmyra is the only moist tropical atoll ecosystem in the Central Pacific with strong Federal protections that is not experiencing exploitation of both marine and terrestrial natural resources by burgeoning human populations. Removing rats from Palmyra will help prevent the extinction of the Central Pacific moist tropical island ecotype.

Alternatives

We developed four alternatives, including Alternative A, our no action alternative. The action alternatives—Alternatives B, C, and D—were developed to focus on the primary issues we identified internally and in comments we received during public scoping from the public, national and international experts in island rodent eradication, and government regulatory agencies.

The potential impacts of the alternatives are assessed in the DEIS, and where appropriate, mitigation measures are applied to reduce the intensity of or avoid the potential effects. A brief description of each alternative follows.

Under Alternative A, our no-action alternative, no new actions to eradicate the black rat population from Palmyra Atoll would be implemented, and the black rat would continue to multiply and harm the Atoll's environment.

Under Alternative B, we would apply a brodifacoum pesticide where appropriate using hand baiting, aerial application, and bait stations, to eliminate black rats from Palmyra Atoll.

Under Alternative C, we would apply a brodifacoum pesticide where appropriate using hand baiting, aerial application, and bait stations, to eliminate black rats from Palmyra Atoll. We would also proactively mitigate potential risks to vulnerable shorebirds.

Under Alternative D, we would establish brodifacoum bait stations and conduct canopy baiting to eliminate black rats from Palmyra Atoll.

Public Availability of the DEIS

The DEIS is available for viewing and downloading on our Web site at http://www.fws.gov/palmyraatoll/. Printed copies of the DEIS may be reviewed at the Pacific Reefs National Wildlife Refuge Complex Office, 300 Ala Moana Blvd., Room 5-211, Honolulu, HI 96850; phone (808) 792-9550.

Next Steps

After this comment period ends, we will analyze the comments and address them in the form of a final environmental impact statement.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: February 4, 2011.
Robyn Thorson,
Regional Director, Region 1, Portland, Oregon.

[FR Doc. 2011-4040 Filed 2-24-11; 8:45 am]

BILLING CODE 4310-55-P